ENVIRONMENTAL PROTECTION AGENCY

40 CFR Part 52

[EPA-R05-OAR-2010-0973; FRL-9319-2]

Approval and Promulgation of Air Quality Implementation Plans; Illinois; Royal Fiberglass Pools, Inc. Adjusted Standard

AGENCY: Environmental Protection Agency (EPA).

ACTION: Direct final rule.

SUMMARY: EPA is approving into the Illinois State Implementation Plan (SIP) an adjusted standard for Royal Fiberglass Pools (“Royal”) at its Dix, Illinois facility. On November 8, 2010, the Illinois Environmental Protection Agency (IEPA) submitted to EPA for approval an adjustment to the general rule, Use of Organic Material Rule, commonly known as the eight pound per hour (8 lb/hr) rule, as it applies to emissions of volatile organic matter (VOM) from Royal's pool manufacturing facility. The adjusted standard relieves Royal from being subject to the general rule for VOM emissions from its Dix facility. EPA is approving this SIP revision because it will not interfere with attainment or maintenance of the ozone National Ambient Air Quality Standard (NAAQS).

DATES: This direct final rule will be effective August 26, 2011, unless EPA receives adverse comments by July 27, 2011. If adverse comments are received, EPA will publish a timely withdrawal of the direct final rule in the Federal Register informing the public that the rule will not take effect.

ADDRESSES: Submit your comments, identified by Docket ID No. EPA-R05-OAR-2010-0973, by one of the following methods:

1. http://www.regulations.gov: Follow the on-line instructions for submitting comments.

2. E-mail: aburano.douglas@epa.gov.

3. Fax: (312) 408-2279.

4. Mail: Doug Aburano, Chief, Control Strategies Section, Air Programs Branch (AR-18J), U.S. Environmental Protection Agency, 77 West Jackson Boulevard, Chicago, Illinois 60604.

5. Hand Delivery: Doug Aburano, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2010-0973. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Carolyn Persoon, Environmental Engineer, at (312) 353-8290, before visiting the Region 5 office.

FOR FURTHER INFORMATION CONTACT: Carolyn Persoon, Environmental Engineer, Control Strategies Section, Air Programs Branch (AR-18J), Environmental Protection Agency, Region 5, 77 West Jackson Boulevard, Chicago, Illinois 60604, (312) 353-8290, persoon.carolyn@epa.gov.

SUPPLEMENTARY INFORMATION: Throughout this document whenever “we,” “us,” or “our” is used, we mean EPA. This supplementary information section is arranged as follows:

I. What should I consider as I prepare my comments for EPA?

II. What is EPA's analysis of Royal's adjusted standard?

III. What action is EPA taking?

IV. Statutory and Executive Order Reviews

I. What should I consider as I prepare my comments for EPA?

When submitting comments, remember to:

1. Identify the rulemaking by docket number and other identifying information (subject heading, Federal Register date and page number).

2. Follow directions—The EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. What is EPA's analysis of Royal's adjusted standard?

Background of the 8 lb/hr Rule and the Adjusted Standard

EPA approved the VOM general 8 lb/hr rule into the Illinois SIP on February 21, 1980 (45 FR 11472). The rule states that “no person shall cause or allow the discharge of more than 3.6 kg/hr (8 lb/hr) of organic material into the atmosphere from any emission source * * *.” The basis for this rule is prevention of ground-level ozone formation in order to meet the ozone NAAQS.

Royal filed a petition for an adjusted standard on April 3, 2009, in accordance with section 28.1 of the Illinois Environmental Protection Act, 415 ILCS 5/28.1, and Illinois' regulations at 35 Ill. Adm. Code section 215. Section 28.1 sets out the factors that a petitioner must demonstrate to justify an adjusted standard. Royal filed the petition describing the factors relating to its Dix facility that are substantially and significantly different from the factors relied on in adopting the general rule, specifically that the general rule did not take into account the specific operations needed to make composite fiberglass pools. Royal also provided an air quality impact analysis to support its petition. On October 28, 2009, the Illinois Pollution Control Board (IPCB) held a public hearing on the petition in Mt. Vernon, Illinois where testimony was given to support Royal's petition. A final order by the IPCB granted Royal an adjusted standard on February 18, 2010. Among other things, the IPCB found that granting the adjusted standard would not result in an adverse impact on air quality in terms of exceeding the ozone NAAQS. The IPCB limited applicability of the adjusted standard to the swimming pool manufacturing emissions units existing as of August 20, 2009 at the Dix facility.

Analysis of SIP Revision for the Adjusted Standard

EPA's approval is based on consideration of whether the adjusted standard meets the requirements of section 110(l) of the Clean Air Act (CAA), 42 U.S.C. 4202(l). In particular, EPA considered whether exempting Royal's Dix facility from compliance with 35 Ill. Adm. Code 215.301 will impact Illinois' ability to attain and maintain the ozone NAAQS in the area in which the facility is located.

Under CAA section 110(l) the state must show that the SIP revision will not interfere with attainment and maintenance of both existing eight-hour ozone standards, which would be 75 parts per billion (ppb) promulgated in 2008 and the 84 ppb promulgated in 1997.¹ Based on the record presented to the IPCB, Royal provided evidence to IEPA after a 2006 notice of violation that Royal could not comply with the 8 lb/hour rule. After reviewing the evidence, IEPA agreed that Royal should file a petition for an adjusted standard. The monitor closest to Royal's Dix facility is located in Hamilton County, Illinois. This monitor has been and currently is attaining the eight-hour ozone standards with design values of 68 ppb for 2007-2009 and 68 ppb for 2008-2010 using preliminary quality assured (but not yet certified) data from 2010. See EPA's Web site on design values for ozone at http://www.epa.gov/airtrends/values.html. Thus, Royal's facility in Dix, Illinois has not been interfering with attainment of the standard at its current production rate.

¹ EPA has not yet designated areas for the 2008 eight-hour ozone standard.

To support its petition, Royal did a conservative analysis of emissions to determine an approximate ozone contribution that would result from it operating at the maximum capacity which Royal is allowed in its approved Title V permit. When adding this potential contribution to the existing monitored data both the 75 and 84 ppb ozone standards are still maintained even at the facility's maximum capacity.

Although Royal is not required to comply with the 8 lb/hour rule, Royal is required to operate its facility in compliance with Federal regulations of reinforced composite manufacturing facilities set forth at 40 CFR part 63 subpart WWWW, which requires certain operational practices, recordkeeping, and emission limits for VOM. The emissions of styrene from Royal's Dix facility are from three different types of operations: (1) Open molding, corrosion resistant and/or high strength resin applied by non-atomized spray, (2) open molding, corrosion resistant and/or high strength resin manually applied, and (3) open molding, resistant and/or high strength gel-coat. The Federal Maximum Achievable Control Technology (MACT) requires emission limits on all of these processes of 113 pounds of styrene per ton of material (lb/ton), 123 lb/ton, and 605 lb/ton, respectively. These emission limits are enforceable VOM limits for the Dix Facility.

III. What action is EPA taking?

EPA is approving into the Illinois SIP an adjusted standard of the 8 lb/hr general rule for VOM for Royal. The adjusted standard removes the 8 lb/hr VOM limit for Royal's fiberglass facility in Dix, Illinois in the SIP, and the Royal facility at Dix, Illinois is no longer subject to this rule as it applies to VOM emissions. The adjusted standard is approvable, since under worst case conditions it is not interfering with attaining or maintaining the 75 and 84 ppb ozone standards as prescribed by section 110(l) of the CAA.

We are publishing this action without prior proposal because we view this as a noncontroversial amendment and anticipate no adverse comments. However, in the proposed rules section of this Federal Register publication, we are publishing a separate document that will serve as the proposal to approve the state plan amendment if relevant adverse written comments are filed. This rule will be effective August 26, 2011 without further notice unless we receive relevant adverse written comments by July 27, 2011. If we receive such comments, we will withdraw this action before the effective date by publishing a subsequent document that will withdraw the final action. All public comments received will then be addressed in a subsequent final rule based on the proposed action. The EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective August 26, 2011.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 26, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: June 3, 2011.
Susan Hedman,
Regional Administrator, Region 5.

40 CFR part 52 is amended as follows:

PART 52—[AMENDED]

1. The authority citation for part 52 continues to read as follows:

Authority: 42 U.S.C. 7401 et seq.

Subpart O—Illinois

2. Section 52.720 is amended by adding paragraph (c)(188) to read as follows:

§ 52.720 Identification of plan.

* * * * *

(c) * * *

(188) On November 8, 2010, the Illinois Environmental Protection Agency submitted a revision to its state implementation plan. The revision to the SIP allows an adjusted standard to the general rule, Use of Organic Material Rule, known as the eight pound per hour (8 lb/hr) rule, for volatile organic matter, for Royal Fiberglass Pools, Inc. manufacturing facility located in Dix, Illinois. The adjusted standard is that 35 Ill. Adm. Code 217.301 does not apply to VOM emissions from Royal's Dix, Illinois facility. The facility is subject to emission limit requirements set forth in the MACT under 40 CFR 63 subpart WWWW finalized in 68 FR 19402, April 21, 2003.

(i) Incorporation by reference. (A) February 18, 2010, Opinion and Order of the Illinois Pollution Control Board, AS-09-04, effective February 18, 2010.

[FR Doc. 2011-15866 Filed 6-24-11; 8:45 am]

BILLING CODE 6560-50-P